FEDERAL MARITIME COMMISSION

[Docket No. 23-04]

Ports America Chesapeake, LLC and Marine Terminals Corporation-East, Complainants v. APS East Coast, Inc., Respondent; Notice of Filing of Complaint and Assignment

Notice is given that a complaint has been filed with the Federal Maritime Commission (Commission) by Ports America Chesapeake, LLC and Marine Terminals Corporation-East (hereinafter “Complainants”) against APS East Coast, Inc. (hereinafter “Respondent”). Complainant states that it is a limited liability company organized under the laws of Delaware with a principal place of business in Maryland. Complainant Marine Terminals Corporation-East is a corporation organized under the laws of California with a principal place of business in Maryland. Complainants identify APS East Coast, Inc. as an auto processing business and Marine Terminal Operator organized under the laws of Delaware, with a principal place of business in Florida and generally doing business as AMPORTS.

Complainants alleges that Respondent violated 46 U.S.C. 41102(c) and 41106(2)-(3), as well as 46 CFR 545.5, regarding its practices and procedures and the billing and payment of costs, including assessing access fees on allegedly “non-preferred” stevedores, as well as preferences for certain stevedoring providers, an additional 14-day notice requirement and advance approval process for non-preferred stevedores, and unreasonably refusing to deal. An answer to the complaint is due to be filed with the Commission within twenty-five (25) days after the date of service.

The full text of the complaint can be found in the Commission's Electronic Reading Room at https://www2.fmc.gov/readingroom/proceeding/23-04/. This proceeding has been assigned to Office of Administrative Law Judges. The initial decision of the presiding officer in this proceeding shall be issued by June 3, 2024, and the final decision of the Commission shall be issued by December 17, 2024.

Served: June 2, 2023.
William Cody,
Secretary.

[FR Doc. 2023-12209 Filed 6-7-23; 8:45 am]

BILLING CODE 6730-02-P